DEPARTMENT OF JUSTICE

Antitrust Division

Notice Pursuant to the National Cooperative Research and Production Act of 1993—Global Climate and Energy Project

Notice is hereby given that, on April 24, 2006, pursuant to Section 6(a) of the National Cooperative Research and Production Act of 1993, 15 U.S.C. 4301 et seq. (“the Act”), Global Climate and Energy Project (“GCEP”) has filed written notifications simultaneously with the Attorney General and the Federal Trade Commission disclosing changes in its activities. The notifications were filed for the purpose of extending the Act's provisions limiting the recovery of antitrust plaintiffs to actual damages under specified circumstances. Specifically, the members of GCEP have, as of September 1, 2003, September 1, 2004, and September 1, 2005, amended the agreement between them to extend the termination of the project, which currently will terminate August 31, 2008, unless further extended. The amendments also provided for funding of GCEP and for additional specified projects, each of which is within the scope of the purpose of GCEP as originally established and notified.

No other changes have been made in either the membership or planned activity of the group research project, and GCEP intends to file additional written notification disclosing all changes in membership.

On March 12, 2003, GCEP filed its original notification pursuant to Section 6(a) of the Act. The Department of Justice published a notice in the Federal Register pursuant to Section 6(b) of the Act on April 4, 2003 (68 FR 16552).

The last notification was filed with the Department on April 16, 2003. A notice was published in the Federal Register pursuant to Section 6(b) of the Act on May 21, 2003 (68 FR 27865).

Dorothy B. Fountain,
Deputy Director Operations, Antitrust Division.

[FR Doc. 06-4723 Filed 5-19-06; 8:45 am]

BILLING CODE 4410-11-M